NUCLEAR REGULATORY COMMISSION

[Docket No. 40-8989; License No. SMC-1559]

Envirocare of Utah and The Snake River Alliance; Receipt of Request for Action Under 10 CFR 2.206

Notice is hereby given that by petitions dated February 24, 2000, and March 13, 2000, The Snake River Alliance and Envirocare of Utah respectively, have requested that the U.S. Nuclear Regulatory Commission (NRC) take action with regard to protecting the public health and safety. The petitioners request that the NRC assume responsibility for Formerly Utilized Sites Remedial Action Program (FUSRAP) radioactively contaminated material and ensure its proper disposal in an NRC-licensed facility.

As the basis for these requests, the petitioners state that the NRC, under Sections 81 and 84 of the Atomic Energy Act (AEA), was given authority by Congress to regulate all 11e.(2) material regardless of when it was generated.

The requests are being treated pursuant to 10 CFR 2.206 of the Commission's regulations. The requests have been referred to the Director of the Office of Nuclear Material Safety and Safeguards. As provided by Section 2.206, appropriate action will be taken on the petitions within a reasonable time. By letters dated April 25, 2000, the Director accepted the petitioners' requests for the NRC to review the AEA and the NRC regulations governing disposal of 11e.(2) byproduct material whether or not it was generated after 1978, and is not taking any immediate action. A copy of the petitions are available for inspection at the Commission's Public Document Room at 2120 L Street, NW. (Lower Level), Washington, DC 20555-0001.

For the Nuclear Regulatory Commission.
Dated at Rockville, Maryland this 25th day of April, 2000.
William F. Kane,
Director, Office of Nuclear Material Safety and Safeguards.

[FR Doc. 00-10987 Filed 5-2-00; 8:45 am]

BILLING CODE 7590-01-P